DEPARTMENT OF THE TREASURY

Alcohol and Tobacco Tax and Trade Bureau

27 CFR Part 9

[Notice No. 58]

RIN: 1513-AB18

Proposed Sonoma County Green Valley Viticultural Area Name Change (2005R-412P)

AGENCY: Alcohol and Tobacco Tax and Trade Bureau, Treasury.

ACTION: Notice of proposed rulemaking.

SUMMARY: The Alcohol and Tobacco Tax and Trade Bureau proposes to rename the “Sonoma County Green Valley” viticultural area as the “Green Valley of Russian River Valley” viticultural area. The area's size and boundaries would remain unchanged. This northern California viticultural area is totally within the Russian River Valley viticultural area, the Sonoma Coast viticultural area, and the multi-county North Coast viticultural area. We designate viticultural areas to allow vintners to better describe the origin of wines and to allow consumers to better identify the wines they may purchase. We invite comments on this proposed change to our regulations.

DATES: We must receive written comments on or before July 3, 2006.

ADDRESSES: You may send comments to any of the following addresses:

• Director, Regulations and Rulings Division, Alcohol and Tobacco Tax and Trade Bureau, Attn: Notice No. 58, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, the petition, and any comments we receive about this notice by appointment at the TTB Information Resource Center, 1310 G Street, NW., Washington, DC 20220. To make an appointment, call 202-927-2400. You may also access copies of the notice and comments online at http://www.ttb.gov/alcohol/rules/index.htm.

See the Public Participation section of this notice for specific instructions and requirements for submitting comments, and for information on how to request a public hearing.

FOR FURTHER INFORMATION CONTACT: N. A. Sutton, Regulations and Rulings Division, Alcohol and Tobacco Tax and Trade Bureau, 925 Lakeville St., No. 158, Petaluma, California 94952; telephone 415-271-1254.

SUPPLEMENTARY INFORMATION:

Background on Viticultural Areas

TTB Authority

Section 105(e) of the Federal Alcohol Administration Act (the FAA Act, 27 U.S.C. 201 et seq.) requires that alcohol beverage labels provide consumers with adequate information regarding a product's identity and prohibits the use of misleading information on those labels. The FAA Act also authorizes the Secretary of the Treasury to issue regulations to carry out its provisions. The Alcohol and Tobacco Tax and Trade Bureau (TTB) administers these regulations.

Part 4 of the TTB regulations (27 CFR part 4) allows the establishment of distinct viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographical origin. The establishment of a viticultural area allows vintners to more accurately describe the origin of their wines to consumers and helps consumers to identify wines they may purchase. However, the establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

A petition requesting the modification of an established viticultural area must include the appropriate evidence described above to support the requested modification.

Sonoma County Green Valley Viticultural Area Background

TTB's predecessor agency, the Bureau of Alcohol, Tobacco and Firearms (ATF), established the Sonoma County Green Valley viticultural area (27 CFR 9.57) in a Treasury Decision (T.D. ATF-161), published in the Federal Register at 48 FR 52577 on November 21, 1983. The 19,010-acre Sonoma County Green Valley viticultural area is located north of San Francisco in southern Sonoma County. (T.D. ATF-161 mistakenly stated the size of the Sonoma County Green Valley viticultural area as 32,000 acres.) The Sonoma County Green Valley viticultural area lies between the towns of Sebastopol, Forestville, and Occidental within the western region of the Russian River Valley viticultural area (27 CFR 9.66), which lies entirely within the Sonoma Coast viticultural area (27 CFR 9.116) and the multi-county North Coast viticultural area (27 CFR 9.30).

In 1982, the original petitioner sought to use the name “Green Valley” for this viticultural area. However, while ATF determined that the Green Valley name was appropriate for the area, ATF required the addition of “Sonoma County” to the name, and thus approved the name “Sonoma County Green Valley” as the viticultural area name. ATF took this action to avoid consumer confusion since “Green Valley” is a commonly used geographical place name in the United States.

In approving the Sonoma County Green Valley viticultural area, ATF specifically noted its 1982 approval of the “Solano County Green Valley” viticultural area (27 CFR 9.44) with the same condition—that the county name appear in conjunction with the viticultural area's name to prevent consumer confusion with other “Green” valleys elsewhere in the United States. T.D. ATF-161 stated that since both “Green Valley” viticultural areas are located in northern California, the inclusion of the county name modifiers in each viticultural area name helped to avoid consumer confusion by distinguishing between the two viticultural areas.

Green Valley of Russian River Valley Petition

The Winegrowers and Vintners of Sonoma County's Green Valley, an association of local winegrowers and vintners based in Sebastopol, California, has petitioned TTB to change the name of the “Sonoma County Green Valley” viticultural area to “Green Valley of Russian River Valley.” The group explains in its petition that the name change is warranted because the viticultural area is commonly referred to as “Green Valley,” without the Sonoma County modifier, and because the Green Valley area is considered by many to be a sub-appellation of the Russian River Valley viticultural area by virtue of its location and similar climate.

TTB notes that the recently expanded 126,600-acre Russian River Valley viticultural area now encompasses the entire Sonoma County Green Valley viticultural area. (See T.D. TTB-32, published in the Federal Register at 70 FR 53297 on September 8, 2005.) We also note that the proposed name change does not affect the established boundaries of either viticultural area.

Three wineries located within the viticultural area at issue, according to the petition, consistently claim the “Sonoma County Green Valley” appellation on their wine labels. Other regional wineries use the Russian River Valley viticultural area appellation on their labels, the petition explains, but include references to the Sonoma County Green Valley viticultural area on their wines' back labels and in their promotional materials.

Changing the viticultural area name to “Green Valley of Russian River Valley,” the petition explains, will provide greater clarity regarding the viticultural area location and its association with the cool climate of the Russian River Valley. Thus, the petition states, consumers will have more accurate and descriptive geographical and climatic information for this viticultural area's wines.

Name Evidence

The petition provides evidence, summarized below, to document that the Sonoma County Green Valley viticultural area is known, and referred to, simply as “Green Valley.” Also, the same evidence describes “Green Valley” as being a part of the larger Russian River Valley viticultural area.

The Savor Wine Country magazine (winter 2003, page 78), published by the Press Democrat newspaper of Sonoma County, California, included a feature article on “Green Valley.” A map of the “Green Valley” area and the Russian River Valley area provided with the article generally agrees with the boundaries of both viticultural areas, including the (at that time) proposed boundary expansion of that Russian River Valley viticultural area. The article states that “Green Valley” is a sub-appellation of the sprawling Russian River Valley viticultural area. It also describes the abundant sparkling wines, pinot noir grapes, and other agricultural products produced in the “Green Valley” area. The article characterizes the viticultural area as a diverse farming region with cool coastal breezes, which coincides with the climatic conditions found in the Russian River Valley viticultural area.

A Los Angeles Times article of January 14, 2004, titled “Out of the Mist, Pinots,” describes the Russian River Valley American viticultural area and its “sub-regions” as having distinct wine personalities. The article states: “Russian River Valley AVA and the Green Valley AVA are primarily climate-based appellations.” While expounding on the exceptional soils of the Russian River Valley viticultural area, the article also states: “The Green Valley AVA (a part of the Russian River AVA) yields bright, bold Pinots with crystalline fruit and piercing acidity.”

A recent “Sonoma County Wine Country Guide,” published by the Sonoma County Wineries Association and included with the petition, describes the “Green Valley” area as a small sub-appellation of the Russian River Valley viticultural area (see the Guide, page 24). The article also describes the marine-influenced climate and the Goldridge series soils, which are conducive to growing fruit. Also, the publication contains an untitled map of Sonoma County's rural western expanse that identifies the Sonoma County Green Valley viticultural area simply as “Green Valley” (see the Guide, page 18).

Linkage of Two Viticultural Area Names

In addition, with the establishment of the Oak Knoll District of Napa Valley viticultural area (27 CFR 9.161), TTB has approved the use of the name of one viticultural area within the name of another viticultural area in order to prevent consumer confusion. In that case, a petitioner proposed to establish the Oak Knoll District viticultural area within the larger Napa Valley viticultural area (27 CFR 9.23) in Napa County, California. In order to distinguish the proposed Oak Knoll District viticultural area from the established Oak Knoll Winery located in Oregon, TTB approved the addition of the “Napa Valley” name to the area's name, resulting in the establishment of the “Oak Knoll District of Napa Valley” viticultural area. (See T.D. TTB-9, published in the Federal Register at 69 FR 8562 on February 25, 2004.)

Likewise, by linking the name of the Green Valley viticultural area and the larger Russian River Valley viticultural area that surrounds it, the petitioners seek to prevent consumer confusion between the two established “Green Valley” viticultural areas, as well as between the Green Valley in Sonoma County and other “Green” valleys in the United States. Therefore, TTB believes that adoption of the proposed new “Green Valley of Russian River Valley” name would be permissible so long as it accurately reflects the geographical location of the viticultural area and does not otherwise create confusion for the consumer.

Impact on Current Wine Labels

General

Part 4 of the TTB regulations prohibits any label reference on a wine that indicates or implies an origin other than the wine's true place of origin. If we approve this proposed viticultural area name change, the new name, “Green Valley of Russian River Valley,” will be recognized as a name of viticultural significance. If approved, this name change will affect vintners who appropriately use the original “Sonoma County Green Valley.”

While “Russian River Valley” and “Solano County Green Valley,” as viticultural area names, are also terms of viticultural significance, we do not believe it would be appropriate to treat “Green Valley” standing alone as a term of viticultural significance due to its widespread use across the United States as a geographic place name. For example, a recent search of the USGS Geographic Names Information System (http://geonames.usgs.gov/) found 65 entries for “Green Valley” in 23 States, including at least 13 places in California in 11 different counties.

Consequently, wine bottlers using the entire descriptor, “Green Valley of Russian River Valley,” in a brand name, including a trademark, or in another label reference as to the origin of the wine, will have to ensure that the product is eligible to use the viticultural area's name as an appellation of origin. Accordingly, the proposed part 9 regulatory text amendments set forth in this document specify that the name “Green Valley of Russian River Valley” is a term of viticultural significance for purposes of part 4 of the TTB regulations.

For a wine to be eligible to use as an appellation of origin the name of a viticultural area specified in part 9 of the TTB regulations, at least 85 percent of the grapes used to make the wine must have been grown within the area represented by that name, and the wine must meet the other conditions listed in 27 CFR 4.25(e)(3). If the wine is not eligible to use the viticultural area name as an appellation of origin and that name appears in the brand name, then the label is not in compliance and the bottler must change the brand name and obtain approval of a new label. Similarly, if the viticultural area name appears in another reference on the label in a misleading manner, the bottler would have to obtain approval of a new label. Accordingly, if a new label or a previously approved label uses the name “Green Valley of Russian River Valley” for a wine that does not meet the 85 percent standard, the new label will not be approved, and the previously approved label will be subject to revocation, upon the effective date of this proposed name change.

Different rules apply if a wine has a brand name containing a viticultural area name that was used as a brand name on a label approved before July 7, 1986. See 27 CFR 4.39(i)(2) for details.

Transition Period

If the proposed “Green Valley of Russian River Valley” name is adopted as a final rule, holders of labels using the current “Sonoma County Green Valley” name that were approved by the effective date of the final regulation changing the viticultural area name to “Green Valley of Russian River Valley” will be permitted to continue using those approved labels for two years from the effective date of the final rule. At the end of this two-year transition period, holders of “Sonoma County Green Valley” wine labels must discontinue use of those labels and will need to secure approval of new labels reflecting the correct use of the new viticultural area name as an appellation of origin. We believe the two year period should provide such label holders with adequate time to use up their old labels.

Public Participation

Comments Invited

We invite comments from interested members of the public on the appropriateness of changing the name of the established “Sonoma County Green Valley” viticultural area to “Green Valley of Russian River Valley” and the proposed two year transition period. We are particularly interested in comments on any possible effects that the use of this changed name would have on the use of the established Russian River Valley and Solano County Green Valley viticultural area names, including any potential conflicts with existing brand names.

TTB will consider only comments concerning the re-naming of the Sonoma County Green Valley viticultural area and the transition period. The proposed name change of Sonoma County Green Valley viticultural area does not affect its boundaries or those of the Russian River Valley viticultural area. With each comment submitted, please provide all available specific information that supports the position of the comment.

Submitting Comments

Please submit your comments by the closing date shown above in this notice. Your comments must include this notice number and your name and mailing address. Your comments must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/alcohol/rules/index.htm. Select the “Send comments via e-mail” link under this notice number.

• Federal e-rulemaking portal: To submit comments to us via the Federal e-rulemaking portal, visit http://www.regulations.gov and follow the instructions for submitting comments.

You may also write to the Administrator before the comment closing date to ask for a public hearing. The Administrator reserves the right to determine whether to hold a public hearing.

Confidentiality

All submitted material is part of the public record and subject to disclosure. Do not enclose any material in your comments that you consider confidential or inappropriate for public disclosure.

Public Disclosure

You may view copies of this notice, the petition, the appropriate maps, and any comments we receive by appointment at the TTB Information Resource Center at 1310 G Street, NW., Washington, DC 20220. You may also obtain copies at 20 cents per 8.5- x 11-inch page. Contact our information specialist at the above address or by telephone at 202-927-2400 to schedule an appointment or to request copies of comments.

For your convenience, we will post this notice and any comments we receive on this proposal on the TTB Web site. We may omit voluminous attachments or material that we consider unsuitable for posting. In all cases, the full comment will be available in the TTB Information Resource Center. To access the online copy of this notice and the submitted comments, visit http://www.ttb.gov/alcohol/rules/index.htm. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

N.A. Sutton of the Regulations and Rulings Division drafted this notice.

List of Subjects in 27 CFR Part 9

Wine.

Proposed Regulatory Amendment

For the reasons discussed in the preamble, we propose to amend 27 CFR, chapter 1, part 9, as follows:

PART 9-AMERICAN VITICULTURAL AREAS

1. The authority citation for part 9 continues to read as follows:

Authority: 27 U.S.C. 205.

Subpart C—Approved American Viticultural Areas

2. Section 9.57 is amended by revising the section heading, paragraph (a), the introductory text of paragraphs (b) and (c), and by adding a new paragraph (d), to read as follows:

§ 9.57 Green Valley of Russian River Valley.

(a) Name. The name of the viticultural area described in this section is “Green Valley of Russian River Valley.” For purposes of part 4 of this chapter, “Green Valley of Russian River Valley” is a term of viticultural significance.

(b) Approved Maps. The appropriate maps for determining the boundary of the Green Valley of Russian River Valley viticultural area are three United States Geological Survey maps. They are titled:

* * * * *

(c) Boundary. The Green Valley of Russian River Valley viticultural area is located in Sonoma County, California. The beginning point is located in the northeastern portion of the “Camp Meeker Quadrangle” map where the line separating section 31 from section 32, in Township 8 North (T.8N.), Range 9 West (R.9W.) intersects River Road.

* * * * *

(d) From December 21, 1983, until [INSERT DATE ONE DAY BEFORE EFFECTIVE DATE OF THE FINAL RULE], the name of this viticultural area was “Sonoma County Green Valley”. Effective [INSERT EFFECTIVE DATE OF THE FINAL RULE], this viticulture area is named “Green Valley of Russian River Valley”. Existing certificates of label approval showing “Sonoma County Green Valley” as the appellation of origin will be revoked by operation of this regulation on [INSERT DATE 2 YEARS AFTER EFFECTIVE DATE OF THE FINAL RULE].

Signed: March 29, 2006.
John J. Manfreda,
Administrator.

[FR Doc. E6-6538 Filed 4-28-06; 8:45 am]

BILLING CODE 4810-31-P